DEPARTMENT OF DEFENSE

Department of the Army

Army Science Board; Notice of Open Meeting

Correction

In notice document 02-9580 appearing on page 19168 in the issue of Thursday, April 18, 2002, make the following correction:

On page 19168, in the second column, the file line should read “[FR Doc. 02-9580 Filed 4-17-02; 8:45 am]”.

[FR Doc. C2-9580 Filed 4-25-02; 8:45 am]

BILLING CODE 1505-01-D

DEPARTMENT OF ENERGY

Federal Energy Regulatory Commission

Notice of Transfer of License, Substitution of Relicense Applicant, and Soliciting Comments, Motions to Intervene, and Protests

Correction

In notice document 02-9708 beginning on page 19566 in the issue of Monday, April 22, 2002, make the following correction:

On page 19567, in the second column, the file line should read “[FR Doc. 02-9708 Filed 4-19-02; 8:45 am]”

[FR Doc. C2-9708 Filed 4-25-02; 8:45 am]

BILLING CODE 1505-01-D

DEPARTMENT OF THE TREASURY

Bureau of Alcohol, Tobacco and Firearms

27 CFR Part 20

[T.D. ATF—476; Notice No. 923]

RIN 1512-AB57

Distribution and Use of Denatured Alcohol and Rum (2000R-291P)

Correction

In rule document 02-8523 beginning on page 17937 in the issue of Friday April 12, 2002, make the following correction:

§20.175 [Corrected]

On page 17939, in the first column, paragraph “(a)” should read “(c)”.

[FR Doc. C2-8523 Filed 4-25-02; 8:45 am]

BILLING CODE 1505-01-D